DEPARTMENT OF COMMERCE

National Oceanic and Atmospheric Administration

50 CFR Part 648

[Docket No. 900124-0127]

RIN 0648-XD515

Atlantic Surfclam and Ocean Quahog Fisheries; 2015 Fishing Quotas for Atlantic Surfclams and Ocean Quahogs; and Suspension of Minimum Atlantic Surfclam Size Limit

AGENCY: National Marine Fisheries Service (NMFS), National Oceanic and Atmospheric Administration (NOAA), Commerce.

ACTION: Temporary reule.

SUMMARY: NMFS suspends the minimum size limit for Atlantic surfclams for the 2015 fishing year. NMFS also announces that the quotas for the Atlantic surfclam and ocean quahog fisheries for 2015 will remain status quo. Regulations governing these fisheries require NMFS to notify the public in the Federal Register of the allowable harvest levels for Atlantic surfclams and ocean quahogs from the Exclusive Economic Zone if the previous year's quota specifications remain unchanged.

DATES: Effective January 1, 2015, through December 31, 2015.

FOR FURTHER INFORMATION CONTACT: Douglas Potts, Fishery Policy Analyst, 978-281-9341.

SUPPLEMENTARY INFORMATION: The regulations implementing the fishery management plan (FMP) for the Atlantic surfclam and ocean quahog fisheries at 50 CFR 648.75(b)(3), authorize the Administrator, Greater Atlantic Region, NMFS (Regional Administrator), to suspend annually, by publication of a notification in the Federal Register, the minimum size limit for Atlantic surfclams. This action may be taken unless discard, catch, and biological sampling data indicate that 30 percent or more of the Atlantic surfclam resource have a shell length less than 4.75 inches (120 mm), and the overall reduced size is not attributable to harvest from beds where growth of the individual clams has been reduced because of density-dependent factors.

At its June 2014 meeting, the Mid-Atlantic Fishery Management Council voted to recommend that the Regional Administrator suspend the minimum size limit for Atlantic surfclams for the 2015 fishing year. Commercial surfclam data for 2014 were analyzed to determine the percentage of surfclams that were smaller than the minimum size requirement. The analysis indicated that 5.9 percent of the overall commercial landings were composed of surfclams that were less than 4.75 in (120 mm). Based on these data, the Regional Administrator concurs with the Council's recommendation, and suspends the minimum size limit for Atlantic surfclams from January 1 through December 31, 2015.

The FMP for the Atlantic surfclam and ocean quahog fisheries requires that NMFS issue notification in the Federal Register of the upcoming year's quota, even in cases where the quota remains unchanged from the previous year. At its June 2014 meeting, the Council also voted that no action be taken to change the quota specifications for Atlantic surfclams and ocean quahogs for the 2015 fishing year, and recommended maintaining the 2014 quota levels of 3.4 million bu (181 million L) for Atlantic surfclams, 5.3 million bu (284 million L) for ocean quahogs, and 100,000 Maine bu (3.524 million L) for Maine ocean quahogs, as announced in the Federal Register on December 20, 2013 (78 FR 77005).

Classification

This action is authorized by 50 CFR part 648 and is exempt from review under Executive Order 12866.

Authority: 16 U.S.C. 1801 et seq.

Dated: September 24, 2014.
Emily H. Menashes,
Acting Director, Office of Sustainable Fisheries, National Marine Fisheries Service.

[FR Doc. 2014-23267 Filed 9-29-14; 8:45 am]

BILLING CODE 3510-22-P